DEPARTMENT OF ENERGY

Federal Energy Regulatory Commission

[Docket No. EC05-5-000, et al.]

Calpine Eastern Corporation, et al.; Electric Rate and Corporate Filings

October 19, 2004.

The following filings have been made with the Commission. The filings are listed in ascending order within each docket classification.

1. Calpine Eastern Corporation, Bethpage Energy Center 3, LLC, Calpine Bethpage 3, LLC

[Docket Nos. EC05-5-000 and EL05-8-000]

Take notice that on October 13, 2004, Calpine Eastern Corporation, Bethpage Energy Center 3, LLC, and Calpine Bethpage 3, LLC (Applicants), submitted an application pursuant to section 203 of the Federal Power Act for authorization of a disposition of jurisdictional facilities whereby: (1) Calpine Eastern Corporation proposes to sell its membership interests in Bethpage Energy Center 3, LLC to a subsidiary of the General Electric Company; (2) Bethpage Energy Center 3, LLC proposes to lease to Calpine Bethpage 3, LLC an approximately 79.9 megawatt electric generating facility currently under construction in New York; and (3) Bethpage Energy Center 3, LLC proposes to assign a power sales agreement to Calpine Bethpage 3, LLC. Applicants also request that the Commission, pursuant to section 201(e) of the FPA, disclaim jurisdiction over the proposed passive owner participant and passive owner lessor of the Bethpage III Energy Center.

Comment Date: 5 p.m. eastern time on November 3, 2004.

2. Oasis Power Partners, LLC

[Docket No. EG05-8-000]

Take notice that on October 12, 2004, Oasis Power Partners, LLC (Oasis), filed an application for a determination that it is an exempt wholesale generator. Oasis states that it will own an electric generating facility located in Kern County, California, that will consist of 60 wind-powered turbine generators and ancillary equipment having a generating capability of 60.0 MW.

Comment Date: 5 p.m. eastern time on November 2, 2004.

3. Bethpage Energy Center 3, LLC

[Docket No. EG05-9-000]

Take notice that on October 14, 2004, Bethpage Energy Center 3, LLC (Applicant), c/o Calpine Corporation, Two Atlantic Avenue, Third Floor, Boston, MA 02110, filed with the Federal Energy Regulatory Commission an application for determination of exempt wholesale generator status pursuant to part 365 of the Commission's regulations.

Applicant states that it is a Delaware limited liability company and proposes to own a 79.9 megawatt natural gas-fired combined cycle electric generating facility located in the Town of Oyster Bay, Nassau County, New York. Applicant further states that copies of the application were served upon the United States Securities and Exchange Commission and New York State Public Service Commission.

Comment Date: 5 p.m. eastern time on November 4, 2004.

4. Calpine Bethpage 3, LLC

[Docket No. EG05-10-000]

Take notice that on October 14, 2004, Calpine Bethpage 3, LLC (Applicant), c/o Calpine Corporation, 50 W. San Fernando Street, San Jose, CA 95113, filed with the Federal Energy Regulatory Commission an application for determination of exempt wholesale generator status pursuant to part 365 of the Commission's regulations.

Applicant states that it is a Delaware limited liability company and proposes to operate a 79.9 megawatt natural gas-fired combined cycle electric generating facility located in the Town of Oyster Bay, Nassau County, New York. Applicant further states that copies of the application were served upon the United States Securities and Exchange Commission and New York State Public Service Commission.

Comment Date: 5 p.m. eastern time on November 4, 2004.

5. New York Independent System Operator, Inc.

[Docket Nos. EL02-125-002]

Take notice that on October 15, 2004, the New York Independent System Operator, Inc. (NYISO) filed revisions to Attachment S of its Open-Access Transmission Tariff. NYISO states that these revisions implement provisions of a settlement approved by the Commission in these proceedings by order issued August 20, 2004. The NYISO has requested an effective date of October 25, 2004 for the revised tariff sheets.

NYISO states that it has served a copy of this filing on the service list maintained by the Commission in this proceeding. NYISO further states that it has electronically served a copy of this filing on the official representative of each of its customers, on each participant in its stakeholder committees, and on the New York State Public Service Commission. The NYISO has also served the electric utility regulatory agencies of New Jersey and Pennsylvania.

Comment Date: 5 p.m. eastern time on October 29, 2004.

6. NorthWestern Energy, a division of NorthWestern Corporation

[Docket No. ER03-329-005]

Take notice that on October 14, 2004, NorthWestern Energy, a division of NorthWestern Corporation (NWE) tendered for filing with the Commission, a second amendment to its July 29 and 30, 2003, compliance filing in Docket No. ER03-329-001.

Comment Date: 5 p.m. eastern time on November 4, 2004.

7. Xcel Energy Services Inc.

[Docket No. ER04-1174-001]

Take notice that on October 13, 2004, Xcel Energy Services Inc. (XES), on behalf of its affiliates, Public Service Company of Colorado (PSCo) and Southwestern Public Service Company (SPS) an amendment to the September 2, 2004, filing in Docket No. ER04-1174-000.

XES states that it has served a copy of the amended filing on each of the persons listed on the Commission's official service list as well as on other persons to whom copies of the complete September 2, 2004, filing were sent.

Comment Date: 5 p.m. eastern time on November 3, 2004.

8. Black Creek Hydro, Inc.

[Docket No. ER05-42-000]

Take notice that on October 13, 2004, Black Creek Hydro, Inc. (Black Creek Hydro) tendered for filing an Agreement for Power Sale (Agreement) between Black Creek Hydro and Avista Corporation (Avista), dated July 1, 2004. Black Creek Hydro states that the Agreement provides for the sale by Black Creek Hydro to Avista of the total energy produced by the Black Creek Hydroelectric Project, located in King County, Washington. Black Creek Hydro also states that the Agreement supersedes Black Creek Hydro's Supplement No. 1 to Rate Schedule FERC No. 1. Black Creek Hydro requests an effective date of June 30, 2004.

Black Creek Hydro states that it has served copies of this filing on Avista.

Comment Date: 5 p.m. eastern time on November 3, 2004.

9. Wisconsin Power and Light Company

[Docket No. ER05-43-000]

Take notice that on October 13, 2004, Wisconsin Power and Light Company (WPL), on its own behalf and on behalf of Municipal Wholesale Power Group, and Wisconsin Public Power Inc. (the Parties), submitted an amendment to the settlement agreement among the Parties on file with the Commission in Docket No. ER02-977-000.

Comment Date: 5 p.m. eastern time on November 3, 2004.

10. Williams Power Company, Inc.

[Docket No. ER05-44-000]

Take notice that on October 13, 2004, Williams Power Company, Inc. (Williams) filed with the Commission a request to modify Schedule A of its Reliability Must-Run Service Agreements with the California Independent System Operator Corporation (CAISO) for Alamitos and Huntington Beach generating facilities, WPC Rate Schedules FERC Nos. 17 and 19. Williams states that the proposed revisions to Schedule A reflect ramp rate set out in the CAISO Tariff and, if adopted, will simplify and expedite the dispatch and settlement process.

Comment Date: 5 p.m. eastern time on November 3, 2004.

11. Midwest Independent Transmission System Operator, Inc.

[Docket No. ER05-46-000]

Take notice that on October 14, 2004, Midwest Independent Transmission System Operator, Inc. (Midwest ISO) pursuant to section 205 of the Federal Power Act and section 35.13 of the Commission's regulations, 18 CFR 35.13 (2004), submitted for filing revisions to Exhibit A and Exhibit B of the Network Integration Transmission Service Agreement under the Midwest ISO's Open Access Transmission Tariff, FERC Electric Tariff, Second Revised Volume No. 1, between Wabash Valley Power Association, Inc., Midwest Energy Cooperative and the Midwest ISO.

Comment Date: 5 p.m. eastern time on November 4, 2004.

12. Calpine Bethpage 3, LLC

[Docket No. ER05-48-000]

Take notice that on October 14, 2004, Calpine Bethpage 3, LLC (the Applicant) tendered for filing, under section 205 of the Federal Power Act (FPA), a request for authorization to make wholesale sales of electric energy, capacity, replacement reserves, and ancillary services at market-based rates, to reassign transmission capacity, and to resell firm transmission rights. Applicant states that it will finish the construction of, test, lease and operate a 79.9 megawatt combined-cycle electric generation facility in the Town of Oyster Bay, New York.

Comment Date: 5 p.m. eastern time on November 4, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2840 Filed 10-25-04; 8:45 am]

BILLING CODE 6717-01-P